DEPARTMENT OF HOUSING AND URBAN DEVELOPMENT

[Docket No. FR-5700-FA-19]

Announcement of Funding Awards for the OneCPD Plus: Technical Assistance and Capacity Building Under the Transformation Initiative Program (OneCPD+) Fiscal Year 2013

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the OneCPD Plus: Technical Assistance and Capacity Building under the Transformation Initiative program (OneCPD+) for Fiscal Year 2013. This announcement contains the names of the awardees and amounts of the awards made available by HUD.

FOR FURTHER INFORMATION CONTACT: Julie Hovden, Director, Technical Assistance Division, Office of Community Planning and Development, 451 Seventh Street SW., Room 7218, Washington, DC 20410-7000; telephone (202) 402-4496 (this is not a toll-free number). Persons with speech or hearing impairments may access this telephone number via TTY by calling the toll-free Federal Information Relay Service during working hours at 800-877-8339. For general information on this and other HUD programs, visit the HUD Web site at www.hud.gov or the OneCPD Resource Exchange at www.onecpd.info.

SUPPLEMENTARY INFORMATION: The purpose of Fiscal Year 2013 OneCPD+ Technical Assistance and Capacity Building program is to provide state government, local government and nonprofit recipients of federal community development, affordable housing, economic development and special needs funding with the assessment tools and technical and capacity building assistance needed to fully understand their local market conditions, to increase their capacity to successfully carry out federal assistance programs while leveraging other public and private resources, and to achieve positive and measurable outcomes. Under OneCPD+, technical assistance will involve the delivery of expert statutory, regulatory, and technical support that improves the program knowledge, skills and capacity of HUD's customers and their partners. Capacity building efforts will be directed at advancing the efficiency and performance of customers and their partners in the administration of federal affordable housing, community and economic development programs, the leveraging of other resources and the furthering of key Departmental objectives, including but not limited to, energy efficiency and green building.

The competition was announced in the NOFA published on June 24, 2013 (FR-5700-N-19) and closed on July 31, 2013. The NOFA allowed for approximately $16.5 million for OneCPD+ awards, however, additional funds became available and awarded. Applications were rated and selected for funding on the basis of selection criteria contained in the NOFA. For the Fiscal Year 2013 competition, 10 awards totaling $18,701,910 were awarded to 10 technical assistance providers nationwide.

In accordance with section 102(a)(4)(C) of the Department of Housing and Urban Development Reform Act of 1989 (103 Stat. 1987, 42 U.S.C. 3545), the Department is publishing the grantees and the amounts of the awards in Appendix A to this document.

Dated: October 28, 2013.
Clifford Taffet,
General Deputy Assistant Secretary for Community Planning and Development.

Appendix A

Fiscal Year 2013
[OneCPD Plus: Technical Assistance and Capacity Building Awards]
Recipient | City | State | Amount
Abt Associates, Inc | Cambridge | MA | $1,300,000
American Institutes for Research | Washington | DC | 1,100,000
Technical Assistance Collaborative, Inc | Boston | MA | 2,000,000
Cloudburst Group | Landover | MD | 2,500,000
Econometrica, Inc | Bethesda | MD | 1,500,000
ICF Incorporated, L.L.C | Fairfax | VA | 5,301,910
Corporation for Supportive Housing | New York | NY | 750,000
Capital Access, Inc | Philadelphia | PA | 750,000
CVR Associates, Inc | Tampa | FL | 1,500,000
Enterprise Community Partners | Columbia | MD | 2,000,000
Total |  |  | 18,701,910

[FR Doc. 2013-26470 Filed 11-4-13; 8:45 am]

BILLING CODE 4210-67-P